DEPARTMENT OF THE INTERIOR

Bureau of Land Management

[AK-963-1410-FQ; F-14223]

Public Land Order No. 7692; Partial Revocation of Public Land Order No. 5150, as Amended; Alaska

AGENCY: Bureau of Land Management, Interior.

ACTION: Public Land Order.

SUMMARY: This order partially revokes a Public Land Order as it affects approximately 82,608 acres of public lands withdrawn and reserved as a utility and transportation corridor within Alaska. This order also makes the lands available for selection and conveyance to the State of Alaska.

EFFECTIVE DATE: March 25, 2008.

FOR FURTHER INFORMATION CONTACT: Renee Fencl, Bureau of Land Management, Alaska State Office, 222 West Seventh Avenue, # 13, Anchorage, Alaska 99513-7599; 907-271-5067.

SUPPLEMENTARY INFORMATION: The withdrawal was reviewed through the land use planning process for the Bureau of Land Management East Alaska Resource Management Plan. It was determined to retain the lands withdrawn by Public Land Order No. 5150, as amended, under Federal management except for the lands described in Paragraph 1 areas located near Paxson, Alaska. Upon revocation, the State of Alaska applications for selection made under the Alaska Statehood Act and the Alaska National Interest Lands Conservation Act become effective without further action by the State, if such lands are otherwise available. Otherwise, the lands in this order will continue to be subject to the terms and conditions of Public Land Order No. 5180, as amended, and any other withdrawal, applications, or segregation of record.

Order

By virtue of the authority vested in the Secretary of the Interior by section 22(h)(4) of the Alaska Native Claims Settlement Act, 43 U.S.C. 1631(h)(4) and section 204 of the Federal Land Policy and Management Act of 1976, 43 U.S.C. 1714 (2000), it is ordered as follows:

1. Public Land Order No. 5150, as amended, which withdrew lands and reserved them for utility and transportation corridor purposes, is hereby revoked insofar as it affects the following described unsurveyed lands:

Fairbanks Meridian

T. 17 S., R. 9 E.,

Secs. 25 to 36, inclusive.

T. 18 S., R. 9 E.,

Secs. 1 to 36, inclusive.

T. 17 S., R. 10 E.,

Secs. 29 to 34, inclusive.

T. 18 S., R. 10 E.,

Secs. 3 to 10, inclusive;

Secs. 15 to 22, inclusive;

Secs. 27 to 34, inclusive.

T. 19 S., R. 10 E.,

Secs. 4 to 9, inclusive;

Secs. 17 to 20, inclusive;

Secs. 28 to 33, inclusive.

T. 20 S., R. 12 E.,

Secs. 1 to 3, inclusive;

Secs. 10 to 15, inclusive;

Secs. 22 to 27, inclusive;

Secs. 34 to 36, inclusive.

T. 21 S., R. 12 E.,

Secs. 1 to 3, inclusive;

Secs. 10 to 15, inclusive;

Secs. 22 to 27, inclusive;

Secs. 34 to 36, inclusive.

The areas described aggregate approximately 82,608 acres.

2. The State of Alaska applications for selection made under section 6(b) of the Alaska Statehood Act of July 7, 1958, 48 U.S.C. note prec. 21 (2000), and under section 906(e) of the Alaska National Interest Lands Conservation Act, 43 U.S.C. 1635(e) (2000), become effective without further action by the State upon publication of this Public Land Order in the Federal Register, if such lands are otherwise available. Lands selected by, but not conveyed to, the State will continue to be subject to Public Land Order No. 5180, as amended, and any other withdrawal or segregation of record.

Dated: March 13, 2008.
C. Stephen Allred,
Assistant Secretary—Land and Minerals Management.

[FR Doc. E8-5988 Filed 3-24-08; 8:45 am]

BILLING CODE 4310-JA-P